CIVIL RIGHTS COMMISSION

Sunshine Act Meeting

AGENCY: United States Commission on Civil Rights.

ACTION: Notice of Commission public business meeting.

DATES: Friday, December 20, 2019, 10:00 a.m. ET.

ADDRESSES: Meeting to take place by telephone.

FOR FURTHER INFORMATION CONTACT: Brian Walch: (202) 376-8371; TTY: (202) 376-8116; publicaffairs@usccr.gov.

SUPPLEMENTARY INFORMATION: This business meeting is open to the public by telephone only: 866-556-2519, Conference ID 536-6190. Persons with disabilities who need accommodation should contact Pamela Dunston at (202) 376-8105 or at access@usccr.gov at least seven (7) business days before the scheduled date of the meeting.

Meeting Agenda

I. Approval of Agenda

II. Subcommittee Meeting

• Planning for site visits to inform the Commission's project on subminimum wages paid to people with disabilities under Section 14(c) of the Fair Labor Standards Act.

III. Adjourn Meeting

Dated: December 13, 2019.
Brian Walch,
Director, Communications and Public Engagement.

[FR Doc. 2019-27230 Filed 12-13-19; 11:15 am]

BILLING CODE 6335-01-P